DEPARTMENT OF HOMELAND SECURITY

Coast Guard

33 CFR Parts 101, 104, 105 and 106

[Docket No. USCG-2007-28915]

RIN 1625-AB21

Transportation Worker Identification Credential (TWIC)—Reader Requirements

AGENCY: Coast Guard, DHS.

ACTION: Notice of public meeting; request for comments.

SUMMARY: The Coast Guard announces a public meeting to receive comments on an advanced notice of proposed rulemaking (ANPRM) entitled Transportation Worker Identification Credential (TWIC)—Reader Requirements that was published in the Federal Register on March 27, 2009. As stated in that document, the ANPRM discusses the Coast Guard's preliminary thoughts on potential requirements for owners and operators of certain vessels and facilities regulated by the Coast Guard under 33 CFR chapter I, subchapter H, for use of electronic readers designed to work with TWICs as an access control measure.

DATES: A public meeting will be held on Wednesday, May 6, 2009. We expect the meeting will run from 9 a.m. to 5 p.m., to provide an opportunity for oral comments. Written comments and related material may also be submitted to Coast Guard personnel specified at that meeting. The comment period for the proposed rule closes May 26, 2009. All comments and related material submitted after the meeting must either be submitted to our online docket via http://www.regulations.gov on or before May 26, 2009 or reach the Docket Management Facility by that date.

ADDRESSES: The public meeting will be held in the Washington, DC area. The exact location will be announced in the Federal Register as soon as it is finalized.

You may submit written comments identified by docket number USCG-2007-28915 before or after the meeting using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. Our online docket for this rulemaking is available on the Internet at http://www.regulations.gov under docket number USCG-2007-28915.

FOR FURTHER INFORMATION CONTACT: If you have questions concerning the meeting or the ANPRM, please call or e-mail LCDR Jonathan Maiorine, Coast Guard; telephone 1-877-687-2243, e-mail Jonathan.H.Maiorine@uscg.mil. If you have questions on viewing or submitting material to the docket, call Ms. Renee V. Wright, Program Manager, Docket Operations, telephone 202-366-9826.

SUPPLEMENTARY INFORMATION:

Background and Purpose

We published an ANPRM in the Federal Register on March 27, 2009 (74 FR 13360), entitled “Transportation Worker Identification Credential (TWIC)—Reader Requirements.” In it we stated our intention to hold a public meeting, and to publish a notice announcing the location and date. 74 FR 13360, 13361. This document is the notice of the date for that meeting, as well as the location of the metropolitan area where it will be held. Further notice of the exact location will be published in the Federal Register. We are publishing this notice in order to aid those wishing to attend the public meeting in making any necessary travel arrangements.

In the ANPRM, we discuss the United States Coast Guard's preliminary thoughts on potential requirements for owners and operators of certain vessels and facilities regulated by the Coast Guard under 33 CFR chapter I, subchapter H, for use of electronic readers designed to work with TWICs as an access control measure. It discusses additional potential requirements associated with TWIC readers, such as recordkeeping requirements for those owners or operators required to use an electronic reader, and amendments to security plans previously approved by the Coast Guard to incorporate TWIC requirements.

This rulemaking action, once final, would enhance the security of ports and vessels by ensuring that only persons who hold valid TWICs are granted unescorted access to secure areas on vessels and port facilities. It would also complete the implementation of the Maritime Transportation Security Act of 2002 transportation security card requirement, as well as the requirements of the Security and Accountability for Every Port Act of 2006, for regulations on electronic readers for use with Transportation Worker Identification Credentials.

You may view the ANPRM in our online docket, and comments submitted thus far by going to http://www.regulations.gov. Once there, select the Advanced Docket Search option on the right side of the screen, insert USCG-2007-28915 in the Docket ID box, press Enter, and then click on the item in the Docket ID column. If you do not have access to the internet, you may view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

We encourage you to participate in this rulemaking by submitting comments either orally at the meeting or in writing. If you bring written comments to the meeting, you may submit them to Coast Guard personnel specified at the meeting to receive written comments. These comments will be submitted to our online public docket. All comments received will be posted without change to http://www.regulations.gov and will include any personal information you have provided.

Anyone can search the electronic form of comments received into any of our dockets by the name of the individual submitting the comment (or signing the comment, if submitted on behalf of an association, business, labor union, etc.). You may review a Privacy Act notice regarding our public dockets in the January 17, 2008 issue of the Federal Register (73 FR 3316).

Information on Service for Individuals With Disabilities

For information on facilities or services for individuals with disabilities or to request special assistance at the public meeting, contact LCDR Maiorine at the telephone number or e-mail address indicated under the FOR FURTHER INFORMATION CONTACT section of this notice.

Public Meeting

The Coast Guard will hold a public meeting regarding its Transportation Worker Identification Credential (TWIC)—Reader Requirements ANPRM on Wednesday, May 6, 2009 from 9 a.m. until 5 p.m., in the Washington, DC area. We plan to have a transcript of the meeting available on our online docket soon after the public meeting.

Dated: April 6, 2009.
Mark P. O'Malley,
Captain, U.S. Coast Guard, Chief, Ports and Facilities Activities.

[FR Doc. E9-8142 Filed 4-7-09; 11:15 am]

BILLING CODE 4910-15-P